DEPARTMENT OF HOUSING AND URBAN DEVELOPMENT

[Docket No. FR-4563 N-14]

Notice of Proposed Information Collection for Public Comment; Insurance Information

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: October 23, 2000.

ADDRESSES: Interested persons are invited to submit comments regarding this proposal. Comments should refer to the proposal by name and/or OMB Control number and should be sent to: Mildred M. Hamman, Reports Liaison Officer, Public and Indian Housing, Department of Housing and Urban Development, 451 7th Street, SW, Room 4238, Washington, DC 20410-5000.

FOR FURTHER INFORMATION CONTACT: Mildred M. Hamman, (202) 708-3642, extension 4128, for copies of the proposed forms and other available documents. (This is not a toll-free number).

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Insurance Information.

OMB Control Number: 2577-0045.

Description of the need for the information and proposed use: The Annual Contributions Contract between HUD and a Public Housing Agency (PHA) requires the PHA to insure their property for an amount sufficient to protect against financial loss. Completion of the HUD-5460 is needed only when a new project is considered. It is used to establish an insurable value at the time the project is built. The amount of insurance can then be increased each year as inflation and increased costs of construction create an upward trend on insurable values.

Agency form number: HUD-5460.

Members of affected public: State or Local government.

Estimation of the total number of hours needed to prepare the information collection including number of respondents, frequency of response, and hours of response: Based upon historical information, it is estimated that approximately 60 new projects will be constructed each year. Public burden for collection of the information necessary to complete the HUD-5460 is estimated to average one hour per response, including time for reviewing instructions, gathering data needed, and reviewing the collection of information. The annual burden hours per PHA should not exceed one hour, and the total hours for all combined would be approximately sixty.

Status of the proposed information collection: Extension, without change.

Authority: Section 3506 of the Paperwork Reduction Act of 1995, 44 U.S.C. Chapter 35, as amended.

Dated: August 16, 2000.
Harold Lucas,
Assistant Secretary for Public and Indian Housing.

BILLING CODE 4210-33-M

[FR Doc. 00-21278 Filed 8-21-00; 8:45 am]

BILLING CODE 4210-33-C